DEPARTMENT OF COMMERCE

Census Bureau

Agency Information Collection Activities; Submission to the Office of Management and Budget (OMB) for Review and Approval; Comment Request; Quarterly Survey of Plant Capacity Utilization

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Quarterly Survey of Plant Capacity Utilization prior to the submission of the information collection request (ICR) to OMB for approval.

DATES: To ensure consideration, comments regarding this proposed information collection must be received on or before February 16, 2021.

ADDRESSES: Interested persons are invited to submit written comments by email to Thomas.J.Smith@census.gov. Please reference Quarterly Survey of Plant Capacity Utilization in the subject line of your comments. You may also submit comments, identified by Docket Number USBC-2020-0032, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Mary Susan Bucci, Chief Economic Reimbursable Surveys Division, (301) 763-4639, and Mary.Susan.Bucci@census.gov.

SUPPLEMENTARY INFORMATION:

I. Abstract

The Census Bureau plans to request an extension of the current OMB clearance for the Quarterly Survey of Plant Capacity Utilization (SPC). The SPC is conducted quarterly, collecting from manufacturing plants and publishers, the value of actual production, the value of production that could have been achieved if operating at “full production” levels, and the value of production that could have been achieved if operating at “national emergency” levels. The survey also collects data on work patterns by shift. These data include hours in operations, production workers, and plant hours worked.

The primary sponsors of this collection and users of these data are the Federal Reserve Board (FRB) and the Defense Logistics Agency (DLA). The FRB uses these data in several ways. First, the capital workweek data is used as an indicator of capital use in the estimation of monthly output (industrial production). Second, the workweek data is used to improve the projections of labor productivity that are used to align industrial production (IP) with comprehensive benchmark information in the Manufacturing Sector of the Economic Census and the Annual Survey of Manufactures. Third, the utilization rate data assists in the assessment of recent changes in IP, as most of the high-frequency movement in utilization rates reflect production changes rather than capacity changes. Fourth, the time series of utilization rate data for each industry, in combination with the FRB IP data, is used to estimate current and historical measures of capacity consistent with the FRB production measures. The DLA uses these data to assess readiness to meet demand for goods under selected national emergency scenarios.

II. Method of Collection

The Census Bureau mails letters to respondents instructing them how to report electronically. Companies are asked to respond within 20 days of the initial mailing. The due date will be imprinted at the top of the letter. A reminder email is sent a week before the due date to delinquent respondents. Letters encouraging participation are mailed to companies that have not responded by the designated due date. A final email is sent to delinquent respondents with information for reporting online. Lastly, we will conduct a telephone follow-up.

III. Data

OMB Control Number: 0607-0175.

Form Number(s): MQ-C2.

Type of Review: Regular submission, Request for an Extension, without Change, of a Currently Approved Collection.

Affected Public: Manufacturing and publishing plants.

Estimated Number of Respondents: 7,500 per quarter.

Estimated Time per Response: 2 hours and 5 minutes.

Estimated Total Annual Burden Hours: 62,500.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Section 8(b); 50 U.S.C. Section 98, et seq.; 12 U.S.C. Section 244.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-27792 Filed 12-16-20; 8:45 am]

BILLING CODE 3510-07-P